DEPARTMENT OF COMMERCE

Foreign-Trade Zones Board

[B-33-2014]

Foreign-Trade Zone 72—Indianapolis, Indiana; Authorization of Production Activity; OHL Contract Logistics, LLC; (Kitting—Subassemblies and Parts for Heavy Trucks, Excavation Machinery) Plainfield, Indiana

On March 12, 2014, OHL Contract Logistics LLC, operator of FTZ 72—Site 16, submitted a notification of proposed production activity to the Foreign-Trade Zones (FTZ) Board for its facility in Plainfield, Indiana.

The notification was processed in accordance with the regulations of the FTZ Board (15 CFR part 400), including notice in the Federal Register inviting public comment (79 FR 18665-18666, 4-3-2014). The FTZ Board has determined that no further review of the activity is warranted at this time. The production activity described in the notification is authorized, subject to the FTZ Act and the FTZ Board's regulations, including Section 400.14. As noted in the request, foreign textile inputs (classified under HTSUS Subheading 4202.12) will be admitted to the zone in domestic (duty-paid) status or privileged foreign status (19 CFR 146.41).

Dated: July 14, 2014.
Andrew McGilvray,
Executive Secretary.

[FR Doc. 2014-16951 Filed 7-17-14; 8:45 am]

BILLING CODE 3510-DS-P